ENVIRONMENTAL PROTECTION AGENCY

[FRL-9654-5]

Proposed CERCLA Administrative Settlement; George L. Gomez and Patricia A. Gomez.

AGENCY: Environmental Protection Agency

ACTION: Notice; request for public comment

SUMMARY: In accordance with Section 122(h)(1) of the Comprehensive Environmental Response, Compensation, and Liability Act, as amended (CERCLA), 42 U.S.C. 9622(h)(1), notice is hereby given of a proposed administrative settlement for the Terrible Mine Site, Isle Mining District, Custer County, Colorado with George L. Gomez and Patricia A. Gomez based upon an inability to pay settlement. The settlement includes a covenant not to sue the settling party pursuant to Section 107(a) of CERCLA, 42 U.S.C. 9607(a), and provides that the settling parties will sign and execute an environmental covenant on the Site. For thirty (30) days following the date of publication of this notice, the agency will receive written comments relating to the settlement. The agency will consider all comments received and may modify or withdraw its consent to the settlement if comments received disclose facts or considerations which indicate that the settlement is inappropriate, improper, or inadequate. The agency's response to any comments received will be available for public inspection at the EPA Region 8 Records Center, 1595 Wynkoop Street, Denver, Colorado 80202.

DATES: Comments must be submitted on or before April 30, 2012.

ADDRESSES: The proposed settlement is available for public inspection at the EPA Region 8 Records Center, 1595 Wynkoop Street, Denver, Colorado 80202. A copy of the proposed settlement may be obtained from John Works, EPA Technical Enforcement Officer, EPA Region 8, 1595 Wynkoop Street, Denver, CO 80202, 303.312.6196. Comments should reference the Terrible Mine Site, Isle Mining District, Custer County, Colorado and EPA Docket No. 08-2012-0003 and should be addressed to John Works, EPA Technical Enforcement Officer, EPA Region 8, 1595 Wynkoop Street, Denver, CO 80202.

FOR FURTHER INFORMATION CONTACT: John Works, EPA Technical Enforcement Officer, EPA Region 8, 1595 Wynkoop Street, Denver, CO 80202, 303-312-6196.

Dated: March 21, 2012.
Andrew M. Gaydosh,
Assistant Regional Administrator, Office of Enforcement and Compliance and Environmental Justice, U. S. Environmental Protection Agency, Region 8, Denver, CO.

[FR Doc. 2012-7682 Filed 3-29-12; 8:45 am]

BILLING CODE 6560-50-P